NATIONAL AERONAUTICS AND SPACE ADMINISTRATION

[Notice (05-087)]

NASA Aeronautical Technologies Strategic Roadmap Committee; Meeting

AGENCY: National Aeronautics and Space Administration.

ACTION: Notice of Meeting Cancellation.

Federal Register Citation of Previous Announcement: Volume 70, Number 78, Page 21254, Notice Number 05-078, April 25, 2005.

Previously Announced Dates of Meeting: Thursday, May 26, 2005, 8 a.m. to 5 p.m. Friday, May 27, 2005, 8 a.m. to 5 p.m. eastern standard time. Meeting has been cancelled.

FOR FURTHER INFORMATION CONTACT: Yuri Gawdiak, 202-358-1853.

Dated: May 3, 2005.
P. Diane Rausch,
Advisory Committee Management Officer, National Aeronautics and Space Administration.

[FR Doc. 05-9619 Filed 5-12-05; 8:45 am]

BILLING CODE 7510-13-P